DEPARTMENT OF HOMELAND SECURITY

Coast Guard

33 CFR Part 100

[Docket No. USCG-2024-0555]

Southern California Annual Marine Events for the Los Angeles Long Beach Captain of the Port Zone

AGENCY: Coast Guard, DHS.

ACTION: Notification of enforcement of regulation.

SUMMARY: The Coast Guard will enforce a special local regulation for the Catalina Ski Race on July 13, 2024, to provide for the safety of life on navigable waterways during this event. Our regulation for marine events within the Los Angeles-Long Beach Captain of the Port Zone identifies the regulated area for this event in Long Beach, CA to Santa Catalina Island, CA. During the enforcement periods, the operator of any vessel in the regulated area must comply with directions from the Patrol Commander or any Official Patrol displaying a Coast Guard ensign.

DATES: The regulations in 33 CFR 100.1104 will be enforced for the location identified in Table 1 to § 100.1104, item number 17, from 5:30 a.m. through 12:30 p.m. on July 13, 2024.

FOR FURTHER INFORMATION CONTACT: If you have questions about this notification of enforcement, call or email LCDR Kevin Kinsella, U.S. Coast Guard; telephone 310-521-3860, email D11-SMB-SectorLALB-WWM@uscg.mil.

SUPPLEMENTARY INFORMATION: The Coast Guard will enforce special local regulations in 33 CFR 100.1104 for the Catalina Ski Race regulated area in item number 17 of Table 1 to § 100.1104 from 5:30 a.m. to 12:30 p.m. on July 13, 2024. This action is being taken to provide for the safety of life on navigable waterways during this event. Our regulation for marine events within the Los Angeles-Long Beach Captain of the Port Zone, Table 1 to § 100.1104, item number 17, specifies the location of the regulated area for the Catalina Ski Race which encompasses portions of San Pedro Bay. During the enforcement periods, § 100.1104 requires operators of a vessel in the regulated area must comply with directions from the Patrol Commander or any Official Patrol displaying a Coast Guard ensign.

In addition to this notification of enforcement in the Federal Register, the Coast Guard plans to provide notification of this enforcement period via an Important Navigation Notice (INN) and a Broadcast Notice to Mariners (BNM).

Dated: June 28, 2024.
Stacey L. Crecy,
Captain, U.S. Coast Guard, Captain of the Port Los Angeles-Long Beach.

[FR Doc. 2024-14785 Filed 7-5-24; 8:45 am]

BILLING CODE 9110-04-P